DEPARTMENT OF THE INTERIOR

Bureau of Land Management

[NM-910-03-1020-PG]

Notice of Public Meeting, New Mexico Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) New Mexico Resource Advisory Council (RAC), will meet as indicated below.

DATES: The meeting will be held on June 5-6, 2003, at the Ruidoso Convention Center, Rooms 2 and 3, 111 Sierra Blanca Drive, Ruidoso, NM, beginning at 8 a.m. The meeting will adjourn between 4 and 5 p.m. both days. An optional Field Trip is planned for Wednesday, June 4. The three established RAC subcommittees will meet in the late afternoon or evening on Thursday, June 5. Location will be announced at the meeting. The public comment period will begin at 10 a.m. on Friday, June 6, and end at 12 noon.

SUPPLEMENTARY INFORMATION: The 15-member Council advises the Secretary of the Interior, through the Bureau of Land Management, on a variety of planning and management issues associated with public land management in New Mexico. At this meeting, the topics we plan to discuss include:

Access Issues

Bark Beetle Infestation

Fire and Fuels Management Plan Amendment/Environmental Assessment

Stewardship Contracting

All meetings are open to the public. The public may present written comments to the Council. Each formal Council meeting will also have time allocated for hearing public comments. Depending on the number of persons wishing to comment and time available, the time for individual oral comments may be limited.

FOR FURTHER INFORMATION CONTACT: Theresa Herrera, RAC Coordinator, New Mexico State Office, Office of External Affairs, Bureau of Land Management, P.O. Box 27115, Santa Fe, NM 87502-0115, (505) 438-7517.

Dated: April 30, 2003.
William S. Condit,
Acting State Director.

[FR Doc. 03-11247 Filed 5-6-03; 8:45 am]

BILLING CODE 4310-FB-M